DEPARTMENT OF COMMERCE

National Oceanic and Atmospheric Administration

RIN 0648-XC580

Marine Mammals; File No. 17751

AGENCY: National Marine Fisheries Service (NMFS), National Oceanic and Atmospheric Administration (NOAA), Commerce.

ACTION: Notice; receipt of application.

SUMMARY: Notice is hereby given that Yoko Mitani, Ph.D., Hokkaido University, 3-1-1 Minato-cho, Hakodate, Hokkaido 041-8611, Japan, has applied in due form for a permit to conduct research on gray (Eschrichtius robustus) and killer (Orcinus orca) whales.

DATES: Written, telefaxed, or email comments must be received on or before April 25, 2013.

ADDRESSES: The application and related documents are available for review by selecting “Records Open for Public Comment” from the Features box on the Applications and Permits for Protected Species (APPS) home page, https://apps.nmfs.noaa.gov, and then selecting File No. 17751 from the list of available applications.

These documents are also available upon written request or by appointment in the following offices:

Permits and Conservation Division, Office of Protected Resources, NMFS, 1315 East-West Highway, Room 13705, Silver Spring, MD 20910; phone (301) 427-8401; fax (301) 713-0376; and

Alaska Region, NMFS, P.O. Box 21668, Juneau, AK 99802-1668; phone (907) 586-7221; fax (907) 586-7249.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Carrie Hubard or Kristy Beard, (301) 427-8401.

SUPPLEMENTARY INFORMATION: The subject permit is requested under the authority of the Marine Mammal Protection Act of 1972, as amended (MMPA; 16 U.S.C. 1361 et seq.) and the regulations governing the taking and importing of marine mammals (50 CFR part 216). Dr. Mitani requests a five-year permit to study gray and killer whales in Alaskan waters, including the Pacific Ocean, Bering Sea, Chukchi Sea, and Arctic Ocean. The objectives of the research are to examine the distribution and movement patterns of gray and killer whales in the area. The marine mammal research is part of a larger study on the reduction of sea ice in the Arctic with the goal of developing predictive ecosystem models. Research methods would consist of vessel surveys, photo-identification, behavioral observations, passive acoustics, thermal imaging, collection of sloughed skin and prey items, and dart tagging. Annually, up to ten killer whales and ten gray whales may have a LIMPET satellite dart tag attached. An additional 1000 animals of each species would be approached for non-invasive research activities or incidentally harassed annually. No other marine mammal species would be approached.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: March 21, 2013.
P. Michael Payne,
Chief, Permits and Conservation Division, Office of Protected Resources, National Marine Fisheries Service.

[FR Doc. 2013-06827 Filed 3-25-13; 8:45 am]

BILLING CODE 3510-22-P